DEPARTMENT OF THE INTERIOR

Bureau of Land Management

[MT-929-00-1420-HE]

Montana: Filing of Plat of Survey

AGENCY: Bureau of Land Management, Montana State Office, Interior.

ACTION: Notice.

SUMMARY: The plat of survey of the following described land is scheduled to be officially filed in the Montana State Office, Billings, Montana, thirty (30) days from the date of this publication.

T. 2 S., R. 44 E., P.M., MT

The plat, representing the dependent resurvey of portions of the subdivisional lines, the adjusted original meanders of the right bank of the Tongue River, downstream through section 10 and the subdivision of section 10 lying within the Northern Cheyenne Indian Reservation, and the subdivision of section 10 and the survey of the medial line of an abandoned channel of the Tongue River, Township 2 South, Range 44 East, Principal Meridian, Montana, was accepted February 10, 2000.

This survey was executed at the request of the Miles City District Office, and was necessary to identify lands administered by the Bureau of Land Management.

A copy of the preceding described plat will be immediately placed in the open files and will be available to the public as a matter of information.

If a protest against this survey, as shown on this plat, is received prior to the date of the official filing, the filing will be stayed pending consideration of the protest.

This particular plat will not be officially filed until the day after all protests have been accepted or dismissed and become final or appeals from the dismissal affirmed.

FOR FURTHER INFORMATION CONTACT: Bureau of Land Management, 5001 Southgate Dr., P.O. Box 36800, Billings, Montana 59107-6800.

Dated: February 11, 2000.
Daniel T. Mates,
Chief Cadastral Surveyor, Division of Resources.

[FR Doc. 00-4400 Filed 2-24-00; 8:45 am]

BILLING CODE 4310-DN-P